DEPARTMENT OF COMMERCE

Foreign-Trade Zones Board

[B-33-2022]

Production Activity Not Authorized; Foreign-Trade Zone (FTZ) 186—Waterville, Maine; Flemish Master Weavers (Machine-Made Woven Area Rugs); Sanford, Maine

On August 2, 2022, the City of Waterville, Maine, grantee of FTZ 186, submitted a notification of proposed production activity to the FTZ Board on behalf of Flemish Master Weavers, within Subzone 186A, in Sanford, Maine.

The notification was processed in accordance with section 400.37 of the regulations of the FTZ Board (15 CFR part 400), including notice in the Federal Register inviting public comment (87 FR 48149, August 8, 2022). On November 30, 2022, the applicant was notified of the FTZ Board's decision that further review of the activity is warranted. The production activity described in the notification was not authorized. For the applicant to continue seeking authorization for this activity, it would need to submit an application for production authority in conformity with section 400.23 of the FTZ Board's regulations.

Dated: November 30, 2022.
Andrew McGilvray,
Executive Secretary.

[FR Doc. 2022-26365 Filed 12-2-22; 8:45 am]

BILLING CODE 3510-DS-P